DEPARTMENT OF JUSTICE

Notice of Lodging of Proposed Consent Decree Under the Resource Conservation and Recovery Act

On December 2, 2016, the Department of Justice lodged a proposed Consent Decree with the United States District Court for the District of Wyoming in the lawsuit entitled United States v. Jim's Water Service, Inc., Civil Action No. 16-cv-296-S.

The United States filed this action under the Resource Conservation and Recovery Act. The complaint seeks injunctive relief, mitigation, and a civil penalty for failure to comply with an Administrative Order (“AO) issued to the Defendant by the Environmental Protection Agency in 2008. The AO was aimed at redressing conditions endangering wildlife at the Defendant's commercial oilfield waste disposal facility known as the Werner Facility in Converse County, Wyoming. In return for a covenant not to sue, the Defendant is obligated under the Consent Decree to take measures to prevent future endangering conditions at the Werner Facility; to implement a mitigation project at Burlington Lake in Gillette, Wyoming consisting of construction of an artificial island to enhance nesting and bird habitat; and to pay a civil penalty of $90,000.

The publication of this notice opens a period for public comment on the Consent Decree. Comments should be addressed to the Assistant Attorney General, Environment and Natural Resources Division, and should refer to United States v. Jim's Water Service, Inc., D.J. Ref. No. 90-7-1-10446. All comments must be submitted no later than thirty (30) days after the publication date of this notice. Comments may be submitted either by email or by mail:

To submit comments: | Send them to:
By e-mail | pubcomment-ees.enrd@usdoj.gov.
By mail | Assistant Attorney General, U.S. DOJ—ENRD, P.O. Box 7611, Washington, DC 20044-7611.

Under section 7003(d) of RCRA, a commenter may request an opportunity for a public meeting in the affected area.

During the public comment period, the Consent Decree may be examined and downloaded at this Justice Department Web site: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $10.25 (25 cents per page reproduction cost) payable to the United States Treasury.

Robert Brook,
Assistant Section Chief, Environmental Enforcement Section, Environment and Natural Resources Division.

[FR Doc. 2016-29397 Filed 12-7-16; 8:45 am]

BILLING CODE 4410-15-P